DEPARTMENT OF THE INTERIOR

Bureau of Indian Affairs

Environmental Impact Statement for the Spokane Tribe's 2719(b)(1)(A) Application and for the Proposed West Plains Mixed-Use Development Project, Spokane County, WA

AGENCY: Bureau of Indian Affairs, Interior.

ACTION: Notice of intent.

SUMMARY: This notice advises the public that the Bureau of Indian Affairs (BIA) as Lead Agency, in cooperation with the Spokane Tribe of Indians (Tribe), intends to prepare an environmental impact statement (EIS) for a proposed mixed-use development and corresponding master plan for a 145-acre parcel of trust land adjacent to the City of Airway Heights, Spokane County, Washington. The project site may include, but is not limited to, a variety of proposed land uses such as a casino resort and hotel; commercial retail uses; offices; medical facilities; recreational, cultural, and entertainment facilities; and related parking. The purpose of the proposed action is to improve the economy of the Tribe and help their members attain economic self sufficiency. This notice also announces a public scoping meeting to identify potential issues and content for inclusion in the EIS.

DATES: Written comments on the scope of the EIS or implementation of the proposed action should be received by October 10, 2009. The public scoping meeting will be held on Wednesday, August 26, 2009, from 5 p.m. to 7:30 p.m.

ADDRESSES: You may mail, hand carry, or telefax written comments to Dr. B.J. Howerton, Environmental Protection Specialist, Bureau of Indian Affairs, Northwest Regional Office, 911 NE 11th Avenue, Portland, Oregon 97232-4169; telefax number (503) 231-2275. Comments may also be submitted electronically at the project Web site, http://www.westplainseis.com. Please see SUPPLEMENTARY INFORMATION for directions on submitting comments. The public scoping meeting will be held at the Sunset Elementary School Gymnasium, 12824 West 12th Avenue, Airway Heights, Washington 99001.

FOR FURTHER INFORMATION CONTACT: Dr. B.J. Howerton, Bureau of Indian Affairs, (503) 231-6749.

SUPPLEMENTARY INFORMATION: The EIS will assess the environmental consequences of BIA approval of a proposed master plan for the development of a mixed-use development—which may include a casino resort and hotel; commercial retail uses; offices; medical facilities; recreational, cultural, and entertainment facilities; and related parking—on an approximately 145-acre parcel of trust land adjacent to the western city limits of Airway Heights, Spokane County, Washington. The project site is near the northwest corner of U.S. Highway 2 (US-2) and Craig Road, and approximately 10 miles west of Spokane, Washington. It is located in the southwest quarter of 22-25-41, excluding US-2, and the north half of the southeast quarter, excluding the east 830 feet of the south 491.5 feet of 22-25-41, excluding roads.

The “Intergovernmental Agreement Between the Spokane Tribe of Indians and the City of Airway Heights” and the “Memorandum of Agreement Between the City of Airway Heights and the Spokane Tribe of Indians Regarding Services and Impacts of Tribal Gaming on Indian Lands Located Adjacent to the City of Airway Heights (April 10, 2007)” provide details concerning shared responsibilities related to law enforcement and security services, public health and safety, road maintenance and repair, and other matters between the Tribe and the City.

The project site would also include internal access roads, parking areas, and associated landscaping. Conceptual traffic analyses suggest possible roadway and intersection improvements along Craig Road and US-2 adjacent to the proposed project site.

Significant issues to be covered during the scoping process may include, but are not limited to, air quality, transportation, surface and groundwater resources, biological resources, cultural resources, socioeconomic conditions, public services, infrastructure, land use, aesthetics, and environmental justice.

Directions for Submitting Public Comments

If you choose to submit your comments to the BIA directly, your comments must be in writing and must be submitted in person or by mail. Please include your name, return address, and the caption, “DEIS Scoping Comments, Spokane Tribe of Indians West Plains Mixed-Use Development Project,” on the first page of your comments.

Public Comment Availability

Comments, including names and addresses of respondents, will be available for public review at the BIA address shown above, during regular business hours, 8 a.m. to 4:30 p.m., Monday through Friday, except holidays. Before including your address, telephone number, e-mail address, or other personal identifying information in your comment, you should be aware that your entire comment—including your personal identifying information—may be made publicly available at any time. While you can ask us in your comment to withhold your personal identifying information from public review, we cannot guarantee that we will be able to do so.

Authority

This notice is published in accordance with section 1503.1 of the Council on Environmental Quality regulations (40 CFR parts 1500 through 1508) implementing the procedural requirements of the National Environmental Policy Act of 1969, as amended (42 U.S.C. 4371 et seq.), and related Department of the Interior requirements in the Department of the Interior Manual (516 DM 2), and is in the exercise of authority delegated to the Assistant Secretary—Indian Affairs by 209 DM 8.1.

Dated: August 13, 2009.
Larry Echo Hawk,
Assistant Secretary—Indian Affairs.

[FR Doc. E9-19882 Filed 8-18-09; 8:45 am]

BILLING CODE P